DEPARTMENT OF EDUCATION

Rehabilitation Research Advisory Council; Request for Nominations

AGENCY: U.S. Department of Education, Office of Special Education and Rehabilitative Services.

ACTION: Request for nominations—Rehabilitation Research Advisory Council.

SUMMARY: The Secretary of the U.S. Department of Education announces the agency's intention to establish a Rehabilitation Research Advisory Council (RRAC). Section 205(a) of the Rehabilitation Act of 1973, as amended, stipulates that, “Subject to the availability of appropriations, the Secretary shall establish in the Department of Education a Rehabilitation Research Advisory Council . . . composed of 12 members appointed by the Secretary.” Section 205(b) provides that the RRAC will advise the Director of the National Institute on Disability and Rehabilitation Research (NIDRR) “with respect to research priorities and the development of the 5-year plan.” The Advisory Council will be governed by provisions of the Federal Advisory Committee Act (FACA) (Pub. L 92-463; as amended, 5 U.S.C. app.), which sets forth standards for the formation and use of advisory committees. The Secretary of Education has determined that establishment of the Rehabilitation Research Advisory Council is desirable to provide advice and consultation to the NIDRR Director on how to improve NIDRR's responsiveness to the current state of the science and the needs of the stakeholder community. The Advisory Council will represent an important, regular forum through which consumers could interact with NIDRR and have direct input into the advice that guides NIDRR's work; will improve research outcomes by identifying new approaches, promoting innovation, recognizing unforeseen risks or barriers, and identifying unintended consequences; will assist NIDRR in its efforts to formalize and document the structure of its long-range planning process; and will add stability and continuity to both NIDRR's long-range planning and priority-setting process. In accordance with the Federal Advisory Committee Act provisions found at 5 U.S.C. 102-3.60, the Department will file a charter. The Department is seeking nominations for membership on the Advisory Council consistent with the requirements listed in the Supplementary Information section of this notice. Nominations should be submitted with a cover letter and include the nominee's contact information (current mailing address, email address, fax, and telephone number) and current curriculum vitae or resume. Address the cover letter as follows: Honorable Arne Duncan, Secretary of Education, U.S. Department of Education, 400 Maryland Avenue SW., Washington, DC 20202.

DATES: Submit nominations by email no later than close of business on December 30, 2013.

ADDRESSES: Nominations should be emailed to the Office of the Secretary/White House Liaison Office, whitehouseliaison@ed.gov. Note in the subject line “Nomination-RRAC”.

FOR FURTHER INFORMATION CONTACT: Office of the Secretary, White House Liaison at 202-401-3677.

SUPPLEMENTARY INFORMATION: The Rehabilitation Research Advisory Council will meet at the call of the Designated Federal Official in consultation with the Chairperson to: (1) Discuss research and related programs that impact people with disabilities, their families and those who provide services and support to them; (2) make recommendations about research development and related activities and to improve the health and functioning, community living and participation and employment outcomes of people with disabilities; and (3) provide feedback on NIDRR's Long Range Plan. On an annual basis, the Advisory Council will evaluate the implementation of the Long Range Plan and make recommendations to the Secretary and the NIDRR Director based on that evaluation.

The Advisory Council will consist of 12 members appointed by the Secretary who are: (1) Individuals with disabilities or their representatives; (2) disability and rehabilitation professionals; (3) disability and rehabilitation researchers or others who have a significant stake in the work of the National Institute on Disability and Rehabilitation Research. At least one-half of the members shall be individuals with disabilities or the individuals' representatives. Members will be invited to serve for 3-year terms, except that any member appointed to fill a vacancy for an unexpired term will be appointed for the remainder of such term. All non-federal members will serve as Special Government Employees.

Accessible Format: Individuals with disabilities can obtain this document in an accessible format (e.g., braille, large print, audiotape, or compact disc) on request to the program contact person listed under FOR FURTHER INFORMATION CONTACT.

Electronic Access to This Document:

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 29 U.S.C. § 765.

Dated: November 25, 2013.
Arne Duncan,
Secretary, U.S. Department of Education.

[FR Doc. 2013-30087 Filed 12-17-13; 8:45 am]

BILLING CODE 4000-01-P